DEPARTMENT OF HEALTH AND HUMAN SERVICES

Food and Drug Administration

[Docket No. FDA-2014-N-0546]

Announcement of Center for Tobacco Products' Move to the Food and Drug Administration's White Oak Campus

AGENCY: Food and Drug Administration, HHS.

ACTION: Notice.

SUMMARY: The Food and Drug Administration (FDA) is announcing that the Center for Tobacco Products (CTP) will be moving its office from various Rockville, MD, locations to the FDA White Oak campus in Silver Spring, MD. The move will commence on or about June 6, 2014, and will end approximately 3 weeks later, on or about June 22, 2014. During this time persons may continue to send applications and other submissions electronically via the eSubmitter tool and FDA Electronic Submissions Gateway to CTP for review, evaluation, or other handling. Persons should send submissions on paper or on electronic media (CD, DVD) to CTP's new mailing addresses once they take effect. CTP's new mailing addresses, including the dates they take effect, as well as other information concerning CTP's move to the FDA White Oak campus in Silver Spring, MD, will be provided on the FDA Web site at http://www.fda.gov/aboutfda/centersoffices/officeofmedicalproductsandtobacco/aboutthecenterfortobaccoproducts/ucm212531.htm, as they become available. During the period required for relocation of files, equipment, and Agency personnel, CTP will make every effort to meet its review time frames and minimize any potential delay. Should delays affecting receipt and review of applications and other submissions occur, we intend to update the FDA Web site as needed.

FOR FURTHER INFORMATION CONTACT: Janelle Barth, Center for Tobacco Products, Food and Drug Administration, 9200 Corporate Blvd., Rockville, MD 20850, 301-796-7320.

SUPPLEMENTARY INFORMATION:

I. Background

Under the Federal Food, Drug, and Cosmetic Act (21 U.S.C. 301 et seq.) as amended by the Family Smoking Prevention and Tobacco Control Act (Pub. L. 111-31), CTP is responsible for regulating the manufacturing, marketing, and distribution of tobacco products to protect the public health and to reduce tobacco use by minors.

In an effort to consolidate, FDA is moving CTP's offices from various Rockville, MD, locations to the FDA White Oak campus in Silver Spring, MD. The move will begin on or about June 6, 2014, and will end about 3 weeks later, on or about June 22, 2014. During this time, persons may continue to send applications and other submissions electronically via the eSubmitter tool and FDA Electronic Submissions Gateway (ESG) to CTP for review, evaluation, or other handling. Information about using the eSubmitter tool and ESG is available at http://www.fda.gov/TobaccoProducts/ResourcesforYou/ForManufacturers/default.htm. Persons should send submissions on paper or on electronic media (CD, DVD) to CTP's new mailing addresses once they take effect. CTP's new mailing addresses, including the dates they take effect, as well as other information concerning CTP's move to the FDA White Oak campus in Silver Spring, MD, will be provided on the FDA Web site at http://www.fda.gov/aboutfda/centersoffices/officeofmedicalproductsandtobacco/aboutthecenterfortobaccoproducts/ucm212531.htm as they become available.

During the period required for relocation of files, equipment, and Agency personnel, CTP will make every effort to meet its review time frames and minimize any potential delay. Should delays affecting receipt and review of applications and other submissions occur, we intend to update the FDA Web site as needed.

II. Comments

Persons who have questions or wish for further information concerning CTP's move to the FDA White Oak campus in Silver Spring, MD, may access the FDA Web site at http://www.fda.gov/aboutfda/centersoffices/officeofmedicalproductsandtobacco/aboutthecenterfortobaccoproducts/ucm212531.htm for more information. CTP intends to update this Web site periodically.

Dated: May 9, 2014.
Leslie Kux,
Assistant Commissioner for Policy.

[FR Doc. 2014-11169 Filed 5-14-14; 8:45 am]

BILLING CODE 4160-01-P